DEPARTMENT OF TRANSPORTATION

Coast Guard

[CGD13-01-003]

Thirteenth Coast Guard District; Relocation of Assets Along North Washington Coast and Closure of Station Quillayute River

AGENCY: Coast Guard, DOT.

ACTION: Notice of meeting; request for comments; notice of intent to prepare environmental assessment.

SUMMARY: The Thirteenth Coast Guard District is holding a series of public meetings to discuss changes in the overall risk environment along the North Washington Coast and a proposed relocation of assets including the closure of Station Quillayute River. The Coast Guard announces its intent to prepare an Environmental Assessment (EA) to cover these proposed actions. The public meetings are meant to discuss, answer questions, and get feedback from the public about these proposed actions. The Coast Guard is also seeking written feedback.

DATES: The open meetings will be held on:

1. April 16, 2001, from 6:30 p.m. to 9 p.m., in LaPush, Washington

2. April 17, 2001, from 6:30 p.m. to 9 p.m., in Forks, Washington

3. April 18, 2001, from 6:30 p.m. to 9 p.m., in Port Townsend, Washington

4. April 19, 2001, from 6:30 p.m. to 9 p.m., in Port Angeles, Washington

A public open house will be held before each meeting from 3:30 p.m. to 5:30 p.m.

Written material, including comments submitted via the Internet must reach the Coast Guard on or before April 23, 2001.

ADDRESSES: The meetings will be held at the following locations:

1. LaPush, Washington—Coast Guard Station; end of LaPush Road; LaPush, WA 98350

2. Forks, Washington—Forks New High School Commons; 411 South Spartan Avenue; Forks, WA 98331

3. Port Townsend, Washington—Pope Marine Building; 540 Water Street; Port Townsend, WA 98368

4. Port Angeles, Washington—City Council Chambers; 321 East Fifth Street; Port Angeles, WA 98362

You may mail comments to the Chief, Resource Management Division, Thirteenth Coast Guard District, Room 3408, Jackson Federal Building, 915 Second Avenue, Seattle, WA 98174-1067. You may also deliver written comments to the same address between 8 a.m. and 4 p.m., Monday through Friday, except Federal holidays. The telephone number is 206-220-7130 or 800-982-8813 extension 7130. You may also submit comments via the Internet at http://www.uscg.mil/D13.

FOR FURTHER INFORMATION CONTACT: For further information on this notice contact Commander Carl Bromund, Chief of Thirteenth Coast Guard District Resource Management Division, telephone 206-220-7130 or 800-982-8813, extension 7130.

SUPPLEMENTARY INFORMATION:

Background Information

The general population, number of registered boaters, and commercial vessel activity is increasing in the Strait of Juan de Fuca and Puget Sound Region causing an increase in demand for Coast Guard services. Along with these increases, there is an expanded need to counter drug smuggling activity and enforce laws for commercial and recreational fishing in the same region.

The Search and Rescue workload at Station Quillayute River has been declining over the past five years. The station has responded to an annual average of less than 28 cases in the last four years, and has only responded to six cases where lives were at risk since 1993. On average, Coast Guard Stations in Washington and Oregon (including Station Quillayute River) respond to about 160 cases per year. In the past five months (between October 1, 2000 and February 28, 2001), the Station has only performed eight Search and Rescue cases. If the proposed relocation were to occur, the demand for Coast Guard services in the Quillayute River area will continue to be met by newer and faster vessels located at Grays Harbor and Neah Bay and the existing aircraft from Port Angeles.

A Search and Rescue (SAR) Performance Model Evaluation was completed to analyze the mission impact of closing Station Quillayute River. The SAR Performance Model is a computer model used to quantify SAR system performance within the area of operations around a station. The results from that analysis showed no significant difference operating with Station Quillayute River open or closed with regards to the estimated number of lives saved, cases with response time greater than 2 hours, or 90% response time (90% of the cases are responded to within this time). An average increase of 9 minutes is predicted for the response time if the station were to be closed.

The Coast Guard is proposing to move the people and boats assigned at Station Quillayute River to Port Angeles and Port Townsend. In the last four years, on average, 89 cases per year have occurred in the waters adjacent to Port Angeles and Port Townsend. The Coast Guard has responded to these cases using helicopters stationed at Port Angeles. Additional boats and people at Port Angeles and Port Townsend would reduce the risk that lives and property would be lost in cases adjacent to those areas.

The EA will be prepared in accordance with Coast Guard procedures and policies (Commandant Instruction M16475.1C) and section 102 (2)(c) of the National Environmental Policy Act (NEPA) of 1969 as implemented by the Council on Environmental Quality regulations (40 CFR parts 1500-15068).

Request for Comments

The Coast Guard encourages submission of written data, views, or arguments on this notice. Persons submitting comments should include their names and addresses, identify this notice (CGD13-01-003), the specific issue that each comment addresses, and the reason for the comment. Please submit all comments and attachments in an unbound format, no larger than 8.5 by 11 inches to the Coast Guard at the address under ADDRESSES. If you want acknowledgment of receipt of your comment, enclose a stamped, self-addressed postcard or envelope. Public comments can be submitted on the Internet at http://www.uscg.mil/D13. The Coast Guard will consider all comments received during the comment period.

Agenda for Meeting

(1) 6:30 p.m.-6:40 p.m.: Introduction, Review of Agenda, Presentation of Background Information

(2) 6:40 p.m.-8:50 p.m.: Public Comments—opportunity for individuals to make oral presentations of 3-5 minutes each according to schedule developed through process described under Public Meeting

(3) 8:50 p.m.: Summary and Conclusion

(4) 9 p.m.: Adjourn

Public Meeting

Attendance is open to the public. With advance notice, and as time permits, members of the public may make oral presentations during the meeting. Persons wishing to make oral presentations should notify Commander Carl Bromund listed under FOR FURTHER INFORMATION CONTACT no later than the day before the meeting. Written material may be submitted before, during, or after the meeting. Public comments can be submitted and more information on the proposal is available on the Internet at http://www.uscg.mil/D13. Persons unable to attend the public meetings are encouraged to submit written comments as outlined above.

Information on Service for Individuals with Disabilities

For information on facilities or services for individuals with disabilities, or to request assistance at the meeting(s), contact Commander Carl Bromund at the address or phone number under FOR FURTHER INFORMATION CONTACT as soon as possible.

Dated: March 21, 2001.
T.H. Gilmour,
Acting Captain, U.S. Coast Guard, Commander, Thirteenth Coast Guard District.

[FR Doc. 01-7626 Filed 3-27-01; 8:45 am]

BILLING CODE 4910-15-P